FEDERAL COMMUNICATIONS COMMISSION

47 CFR Part 0

[GN Docket No. 09-51; PS Docket No. 06-229; FCC 10-67]

Establishment of an Emergency Response Interoperability Center

AGENCY: Federal Communications Commission.

ACTION: Final rule.

SUMMARY: This Order amends Part 0 of the Commission's rules to establish rules governing the Emergency Response Interoperability Center (ERIC). The Commission further delegates authority to the Chief of the Public Safety and Homeland Security Bureau to establish advisory bodies and select appropriate representatives from federal agencies, the public safety community, and industry to advise ERIC.

DATES: Effective Date: June 21, 2010.

ADDRESSES: Federal Communications Commission, 445 12th Street, SW., Washington, DC 20554.

FOR FURTHER INFORMATION CONTACT: Jennifer Manner, Jennifer.manner@fcc.gov; (202) 418-3619.

SUPPLEMENTARY INFORMATION: The Commission will not send a copy of this Order pursuant to the Congressional Review Act, see 5 U.S.C. 801(a)(1)(A), because the adopted rules are rules of agency organization, procedure, or practice that do not substantially affect the rights or obligations of non-agency parties.

On March 16, 2010, the Commission submitted a report to Congress entitled “The National Broadband Plan (Plan).” As part of its national broadband strategy, the Plan recommends the establishment of an Emergency Response Interoperability Center (ERIC) tasked with ensuring that the 700 MHz public safety broadband wireless network will be fully operable and interoperable on a nationwide basis, both day-to-day as well as during times of emergency.

To ensure a baseline of operability and interoperability from the start of the network's development, the Commission has concluded that the public interest will be served by establishing ERIC within the Public Safety and Homeland Security Bureau (PSHSB). Accordingly, the Commission is assigning to ERIC responsibilities consistent with those currently assigned to PSHSB under § 0.191 of the FCC's rules. More specifically, ERIC will be tasked with implementing national interoperability standards and developing technical and operational procedures for the 700 MHz public safety broadband wireless network. The Commission also anticipates that over time, ERIC may perform similar functions with respect to other public safety communications systems.

The Commission will not send a copy of this Order pursuant to the Congressional Review Act, see 5 U.S.C. 801(a)(1)(A), because the adopted rules are rules of agency organization, procedure, or practice that do not substantially affect the rights or obligations of non-agency parties.

List of Subjects in 47 CFR Part 0

Organization and functions (Government agencies).

Federal Communications Commission.
Marlene H. Dortch,
Secretary.

Final Rules

For the reasons discussed in the preamble, the Federal Communications Commission proposes to amend 47 part 0 as follows:

PART 0—COMMISSION ORGANIZATION

1. The authority citation for part 0 continues to read as follows:

Authority: Sec. 5, 48 Stat. 1068, as amended; 47 U.S.C. 155, 225, unless otherwise noted.

2. Section 0.191 is amended by adding paragraph (q) to read as follows:

§ 0.191 Functions of the Bureau.

* * * * *

(q) Oversees the Emergency Response Interoperability Center, establishes the intergovernmental advisory committees described under § 0.192(b), and administers the agency's responsibilities in connection with such committees.

3. Add § 0.192 to Subpart A to read as follows:

§ 0.192 Emergency Response Interoperability Center.

(a) The Emergency Response Interoperability Center acts under the general direction of the Chief of the Public Safety and Homeland Security Bureau to develop, recommend, and administer policy goals, objectives, rules, regulations, programs, and plans for the Commission in matters pertaining to the implementation of national interoperability standards and the development of technical and operational requirements and procedures for the 700 MHz public safety broadband wireless network and other public safety communications systems. These requirements and procedures may involve such issues as interoperability, roaming, priority access, gateway functions and interfaces, interconnectivity of public safety broadband networks, authentication and encryption, and requirements for common public safety broadband applications.

(b) To the extent permitted by applicable law, the Chief of the Public Safety and Homeland Security Bureau shall have delegated authority to establish one or more advisory bodies, consistent with the Federal Advisory Committee Act or other applicable law, to advise the Emergency Response Interoperability Center in the performance of its responsibilities. Such advisory bodies may include representatives from relevant Federal public safety and homeland security entities, representatives from state and local public safety entities, industry representatives, and service providers.

4. Section 0.392 is amended by revising the introductory text to read as follows:

§ 0.392 Authority Delegated.

The Chief, Public Safety and Homeland Security Bureau, is hereby delegated authority to perform all functions of the Bureau, described in §§ 0.191 and 0.192, subject to the following exceptions and limitations in paragraphs (a) through (e) of this section.

* * * * *

[FR Doc. 2010-12139 Filed 5-19-10; 8:45 am]

BILLING CODE 6712-01-P